DEPARTMENT OF LABOR

Office of the Secretary

Submission for OMB Emergency Review: Comment Request

May 20, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by June 19, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—Mine Safety and Health Administration (MSHA), Office of Management and Budget, Room 10235, Washington, DC 20503, Telephone: 202-395-7316/Fax: 202-395-6974 (these are not toll-free numbers), e-mail: OIRA_submission@omb.eop.gov. Comments and questions about the ICR listed below should be received no later than the requested OMB approval date. An additional opportunity to comment on this ICR will also be provided when DOL seeks approval under standard PRA clearance procedures pursuant to 5 CFR 1320.12, “Clearance of collections of information in current rules.”

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Mine Safety and Health Administration.

Title of Collection: Mine Rescue Teams for Underground Coal Mine Operators.

OMB Control Number: 1219-0144.

Affected Public: Underground coal mines.

Total Estimated Number of Respondents: 653.

Total Estimated Annual Burden Hours: 1,550.

Total Net Estimated Annual Costs Burden (other than hourly wage costs): $653.

Description: The respondents for this collection of information are underground coal mine operators. The records will be used by coal mine operators, supervisors, and employees, and State and Federal mine inspectors to provide assurance that each mine operator and mine rescue team is prepared for a mine emergency. The records show that the mine rescue team equipment has been examined and tested and is in good working order. The training records show that the mine rescue team members and the responsible persons at the mine are competent to respond to a mine emergency involving a fire, an explosion, or a gas or water inundation. The records greatly assist those who use them in making decisions that will ultimately affect the safety of all persons working underground.

These information collection requirements help assure that properly trained mine rescue teams are readily available to save endangered miners in life-threatening situations. In addition, the training requirements in this information collection will help assure the safety of the mine rescue team itself.

Why are we requesting Emergency Processing? The Mine Improvement and New Emergency Response Act of 2006 became effective on June 15, 2006 (MINER Act). The goal of the MINER Act is “to improve the safety of mines and mining.” To accomplish this goal, the MINER Act includes provisions to improve mine emergency response time, improve mine rescue team effectiveness, and increase the quantity and quality of mine rescue team training.

Section 4 of the MINER Act required MSHA to publish regulations on mine rescue teams. Because the mine rescue team provisions contained in Section 4 of the MINER Act apply only to underground coal mines, this rule will affect those mines and the mine rescue teams that cover them.

MSHA published a final rule revising the Agency's requirements for mine rescue teams for underground coal mines on February 8, 2008. The United Mine Workers of America challenged the final rule in the U.S. Court of Appeals for the District of Columbia Circuit. On February 10, 2009, the Court vacated the rule's provisions allowing mine-site and state-sponsored teams to train at small mines annually and State employees who are members of State-sponsored teams to substitute certain job duties for participation in one of two mine rescue contests required annually. The Court also vacated MSHA's conclusion in the preamble that State employees who are members of State-sponsored teams may participate in a mine rescue contest by serving as judges. See Int'l Union, United Mine Workers of Am. v. Dep't of Labor, 554 F.3d 150 (D.C. Cir. 2009).

Consistent with the Court's decision, MSHA is revising the existing rule to require mine-site and State-sponsored teams to train at small mines semiannually and State employees who are members of State-sponsored teams to participate in two mine rescue contests annually. An emergency review is necessary in order to obtain approval of the changes implemented by the aforementioned final rule which is being promulgated for reasons stated above and is effective upon publication.

Darrin A. King,
Departmental Clearance Officer.

[FR Doc. E9-12278 Filed 5-22-09; 8:45 am]

BILLING CODE 4510-43-P